DEPARTMENT OF LABOR

Employment and Training Administration

[TA-W-41,175]

A. Brod, Inc., Long Island City, NY; Notice of Termination of Investigation

Pursuant to section 221 of the Trade Act of 1974, an investigation was initiated on March 25, 2002 in response to petition filed by the company on behalf of workers at A. Brod, Inc., Long Island City, New York.

The Department of Labor was unable to locate the petitioner or any other official of the company to obtain the information necessary to render a decision. Consequently, further investigation in this case would serve no purpose, and the investigation has been terminated.

Signed in Washington, DC this 18th day of October, 2002.
Linda G. Poole,
Certifying Officer, Division of Trade Adjustment Assistance.

[FR Doc. 02-28029 Filed 11-4-02; 8:45 am]

BILLING CODE 4510-30-P